DEPARTMENT OF JUSTICE

Antitrust Division

Notice Pursuant to the National Cooperative Research and Production Act of 1993—National Spectrum Consortium

Notice is hereby given that, on May 31, 2016, pursuant to section 6(a) of the National Cooperative Research and Production Act of 1993, 15 U.S.C. 4301 et seq. (“the Act”), National Spectrum Consortium (“NSC”) has filed written notifications simultaneously with the Attorney General and the Federal Trade Commission disclosing changes in its membership. The notifications were filed for the purpose of extending the Act's provisions limiting the recovery of antitrust plaintiffs to actual damages under specified circumstances. Specifically, Fibertek, Inc., Herndon, VA; ANRA Technologies, LLC, Stone Ridge, VA; Systems & Technology Research, Woburn, MA; Toyon Research Corporation, Goleta, CA; Global Ground Systems, LLC, Purcellville, VA; Leidos, Inc., Reston, VA; Thales Defense & Security, Inc., Clarksburg, MD; Zoic Labs, LLC, Culver City, CA; Corner Alliance, Inc., Washington, DC; Digital Global Systems, Beltsville, MD; C-3 Comm Systems, LLC, Vienna, VA; EPIC Scientific, Spring Lake Heights, NJ; Metamagnetics, Inc., Canton, MA; University of Kansas Center for Research, Inc., Lawrence, KS; Adjacent Link LLC, Bridgewater, NJ; University of Dayton, Dayton, OH; Welkin Sciences, LLC, Colorado Springs, CO; Aeronix, Inc., Melbourne, FL; EpiSys Science, Inc., Poway, CA; University of California, Irvine, CA; Booz Allen Hamilton, Inc., Belcamp, MD; Waveform Logic, Inc., Winter Park, FL; Agile Communications, Inc., Thousand Oaks, CA; Drexel University, Philadelphia, PA; Scientific Research Corporation, Atlanta, GA; Applied Technology Associates, Albuquerque, NM; Jupiterra LLC, Washington, DC; Photonic Systems, Inc., Billerica, MA; Ball Aerospace & Technologies Corp., Fairborn, OH; MaXentric Technologies, LLC, Fort Lee, NJ; NorthWest Research Associates, Inc., Redmond, WA; and Ideal Innovations Incorporated, Arlington, VA, have been added as parties to this venture.

Also, ICF Incorporated, LLC, Fairfax, VA; Kestrel Corporation, Albuquerque, NM; Metric Systems Corporation, Vista, CA; and Shared Spectrum Company, Vienna, VA, have withdrawn as parties to this venture.

No other changes have been made in either the membership or planned activity of the group research project. Membership in this group research project remains open, and NSC intends to file additional written notifications disclosing all changes in membership.

On May 24, 2014, NSC filed its original notification pursuant to section 6(a) of the Act. The Department of Justice published a notice in the Federal Register pursuant to section 6(b) of the Act on November 4, 2014 (72 FR 65424).

The last notification was filed with the Department on March 15, 2016. A notice was published in the Federal Register pursuant to section 6(b) of the Act on April 14, 2016 (81 FR 22120).

Patricia A. Brink,
Director of Civil Enforcement, Antitrust Division.

[FR Doc. 2016-15972 Filed 7-5-16; 8:45 am]

BILLING CODE P